ENVIRONMENTAL PROTECTION AGENCY

[EPA-HQ-OAR-2010-0133; FRL-9904-55-OAR]

Proposed Information Collection Request; Comment Request; Regulation of Fuels and Fuel Additives: 2011 Renewable Fuel Standards—Petition for International Aggregate Compliance Approach

AGENCY: Environmental Protection Agency (EPA).

ACTION: Notice.

SUMMARY: The Environmental Protection Agency is planning to submit an information collection request (ICR), “Regulation of Fuels and Fuel Additives: 2011 Renewable Fuel Standards—Petition for International Aggregate Compliance Approach” (EPA ICR No. 2398.03, OMB Control No. 2060-0655 to the Office of Management and Budget (OMB) for review and approval in accordance with the Paperwork Reduction Act (44 U.S.C. 3501 et seq.). Before doing so, EPA is soliciting public comments on specific aspects of the proposed information collection as described below. This is a proposed extension of the ICR, which is currently approved through February 28, 2014. An Agency may not conduct or sponsor and a person is not required to respond to a collection of information unless it displays a currently valid OMB control number.

DATES: Comments must be submitted on or before February 18, 2014.

ADDRESSES: Submit your comments, referencing Docket ID No. EPA-HQ-OAR-2010-0133, online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Geanetta Heard, Fuels Compliance Center, 6406J, Environmental Protection Agency, 1200 Pennsylvania Ave. NW., Washington, DC 20460; telephone number: 202-343-9017; fax number: 202-565-2085; email address: heard.geanetta@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: With this ICR renewal, EPA is seeking permission to continue recordkeeping and reporting requirements to authorize renewable fuel producers using certain foreign-grown feedstocks to use an aggregate approach to comply with the renewable biomass verification provisions, akin to that applicable to producers using crops and crop residue grown in the United States. For this authorization, foreign based entities may petition EPA for approval of the aggregate compliance approach for specified renewable fuel feedstocks either in a foreign country as a whole or in a specified geographical area. This petition request for the aggregate compliance approach for foreign-grown crops and crop residue is voluntary, though, if approved by EPA, will offer the benefit that certain renewable biomass produced in a foreign country or geographical area can be counted as feedstock to make renewable fuel for credit under the Renewable Fuel Standard (RFS2) program in 40 CFR Part 80.

Form numbers: None.

Respondents/affected entities: 15.

Respondent's obligation to respond: Voluntary.

Estimated number of respondents: 15 (total).

Frequency of response: On occasion.

Total estimated burden: 200 hours (per year). Burden is defined at 5 CFR 1320.03(b).

Total estimated cost: $22,794 (per year), includes no annualized capital or operation & maintenance costs.

Changes in estimates: There is no increase of hours in the total estimated respondent burden compared with the ICR currently approved by OMB. The respondent universe and responses also remained the same in this collection. There was in increase in cost to the industry of $8,598 per year due to better numbers used to calculate the industry burden and to account for inflation.

Dated: December 4, 2013.
Byron Bunker,
Director, Compliance Division.

[FR Doc. 2013-30428 Filed 12-19-13; 8:45 am]

BILLING CODE 6560-50-P